DEPARTMENT OF ENERGY

Federal Energy Regulatory Commission

[Docket No. RP99-301-009]

ANR Pipeline Company; Notice of Proposed Changes in FERC Gas Tariff

November 6, 2000.

Take notice that on October 31, 2000, ANR Pipeline Company (ANR) tendered for filing, as part of its FERC Gas Tariff, Second Revised Volume No. 1, the following tariff sheets proposed to become effective November 1, 2000:

First Revised Sheet No. 14B

First Revised Sheet No. 14F

First Revised Sheet No. 14L

ANR is filing the attached tariff sheets to reflect a change in the negotiated rate contracts with Wisconsin Public Service Corporation (WPSC). WPSC is increasing its MDQ under its Marshfield contract 5500 by 68 dth/d, and making a corresponding decrease of 68 dth/d to its Joliet Hub contract 104403. Also, WPSC is adjusting its previous annual MDQ level associated with NNS contract 99515, to provide for a seasonal split it the MDQ. Therefore, on an annual basis, there is no change in level of NNS service. ANR requests that the Commission grant ANR any waivers of the Commission's regulations which are necessary in order to make these tariff sheets effective as of November 1, 2000, and to the extent necessary, moves pursuant to 18 CFR 154.7(a)(9) for the tariff sheets to go into effect on said date. Additionally, ANR requests all such further relief as is appropriate.

ANR states that a copy of this filing is being mailed to the affected shipper and to each of ANR's FERC Gas Tariff, Second Revised Volume No. 1 and Original Volume No. 2 customers, and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 00-28935 Filed 11-9-00; 8:45 am]

BILLING CODE 6717-01-M